DEPARTMENT OF COMMERCE

International Trade Administration

[C-122-839]

Certain Softwood Lumber Products From Canada: Extension of Time Limit for the Preliminary Results of Countervailing Duty New Shipper Review

AGENCY: Import Administration, International Trade Administration, Department of Commerce.

ACTION: Notice of extension of time limit for preliminary results of countervailing duty new shipper review.

EFFECTIVE DATE: November 1, 2004.

FOR FURTHER INFORMATION CONTACT: Kristen Johnson, AD/CVD Operations, Office III, Import Administration, International Trade Administration, U.S. Department of Commerce, 14th Street and Constitution Avenue, NW., Washington, DC 20230; telephone (202) 482-4793.

Background

On July 8, 2004, the Department of Commerce (the Department) initiated a new shipper review relating to the countervailing duty order on certain softwood lumber products from Canada, covering the period January 1, 2003, through December 31, 2003. See Certain Softwood Lumber From Canada: Notice of Initiation of Antidumping Duty New Shipper Review for the Period May 1, 2003, through April 30, 2004, and Notice of Initiation of Countervailing Duty New Shipper Review for the Period January 1, 2003, through December 31, 2003, July 8, 2004 (69 FR 41229).¹ The respondent in this review is Seed Timber Co., Ltd. (Seed Timber). The current deadline for the preliminary results is December 27, 2004.

¹ Seed Timber's antidumping new shipper review was subsequently rescinded as a result of the company's withdrawal of its request for a review (69 FR 54766, September 10, 2004).

Statutory Time Limits

Section 751(a)(2)(B)(iv) of the Tariff Act of 1930, as amended (the Act), requires the Department to make a preliminary determination within 180 days after the date on which the new shipper review was initiated. However, when the Department determines a case is extraordinarily complicated such that it cannot complete the review within this time period, section 751(a)(2)(B)(iv) of the Act and section 351.214(i)(2) of the Department's regulations allow the Department to extend the time limit for the preliminary determination from 180 days to 300 days.

Extension of Time Limit for Preliminary Results of Review

We determine that this case is extraordinarily complicated given the number of programs to be analyzed. Specifically, in this review, we are examining 12 different federal/provincial programs. As a consequence of the large number of programs being reviewed and the fact that Seed Timber is a pro se respondent, we have granted the company a number of extensions to respond to the Department's information requests. Thus, in accordance with the statutory and regulatory authority cited above, we are extending the deadline for issuing the preliminary results of this new shipper review by 120 days to no later than April 26, 2005. We plan to issue the final results within 90 days after the date the preliminary results are issued.

Dated: October 26, 2004.
Jeffrey A. May,
Deputy Assistant Secretary for Import Administration.

[FR Doc. E4-2953 Filed 10-29-04; 8:45 am]

BILLING CODE 3510-DS-P